DEPARTMENT OF EDUCATION

Applications for New Awards: Disability Innovation Fund—Career Advancement Initiative Model Demonstration Project

AGENCY: Office of Special Education and Rehabilitative Services, Department of Education.

ACTION: Notice; corrections.

SUMMARY: On January 7, 2021, the U.S. Department of Education (the Department) published in the Federal Register a notice inviting applications for new awards for fiscal year (FY) 2021 for the Disability Innovation Fund—Career Advancement Initiative Model Demonstration Project, Assistance Listing Number 84.421C (NIA). We are correcting the date that applications were made available to January 8, 2021, the deadline for transmittal of applications to April 8, 2021, and the deadline for intergovernmental review to June 7, 2021. All other information in the NIA remains the same.

DATES: These corrections are applicable February 19, 2021.

FOR FURTHER INFORMATION CONTACT: Cassandra P. Shoffler, U.S. Department of Education, 400 Maryland Avenue SW, Room 5065A, Potomac Center Plaza, Washington, DC 20202-2800. Telephone: (202) 245-7827. Email: 84.421C@ed.gov.

If you use a telecommunications device for the deaf (TDD) or a text telephone (TTY), call the Federal Relay Service (FRS), toll free, at 1-800-877-8339.

SUPPLEMENTARY INFORMATION: On January 7, 2021, the Department published the NIA in the Federal Register (86 FR 1092). The NIA provided that applications would be available on January 7, 2021, and that the deadline for transmittal of applications would be 90 days later, on April 7, 2021. However, applications were not available on Grants.gov until January 8, 2021. Therefore, this notice corrects the Applications Available date to January 8, 2021, and adjusts the Deadline for Transmittal of Applications by one day to April 8, 2021, to allow 90 days for applicants to submit applications. We also correct the deadline for intergovernmental review to June 7, 2021. All other requirements and conditions in the NIA remain the same.

Corrections:

In FR Doc. 2021-00149 appearing on page 1092 in the Federal Register of January 7, 2021, the following corrections are made:

1. On page 1092, in the second column, under DATES, and after “Applications Available:”, we remove the date “January 7, 2021” and add, in its place, the date “January 8, 2021”.

2. On page 1092, in the second column, under DATES, and after “Deadline for Transmittal of Applications:”, we remove the date “April 7, 2021” and add, in its place, the date “April 8, 2021”.

3. On page 1092, in the third column, under DATES, and after “Deadline for Intergovernmental Review:”, we remove the date “May 7, 2021” and add, in its place, the date “June 7, 2021”.

Program Authority: Further Consolidated Appropriations Act, 2020 (Pub. L. 116-94), 133 Stat. 2590-91.

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

David Cantrell,
Deputy Director, Office of Special Education Programs. Delegated the authority to perform the functions and duties of the Assistant Secretary for the Office of Special Education and Rehabilitative Services.

[FR Doc. 2021-03430 Filed 2-18-21; 8:45 am]

BILLING CODE 4000-01-P